DEPARTMENT OF DEFENSE

Office of the Secretary

[Docket ID: DOD-2012-OS-0031]

32 CFR Part 322

Privacy Act; Implementation; Correction

AGENCY: Office of the Secretary, DoD.

ACTION: Direct final rule with request for comments; correction.

SUMMARY: On March 16, 2012 (77 FR 15595-15596), Department of Defense published a direct final rule titled Privacy Act; Implementation. This rule corrects the paragraph identification in the added text.

DATES: This rule is effective on May 25, 2012.

FOR FURTHER INFORMATION CONTACT: Patricia Toppings, (571) 372-0485.

SUPPLEMENTARY INFORMATION: On March 16, 2012, Department of Defense published a direct final rule titled Privacy Act; Implementation. Subsequent to the publication of that direct final rule, Department of Defense discovered that paragraphs (l)(2) through (l)(5) in § 322.7 should have read paragraphs (l)(1) through (l)(4).

Correction

In the direct final rule (FR Doc. 2012-6170) published on March 16, 2012 (77 FR 15595-15596), make the following corrections:

§ 322.7 [Corrected]

On page 15596, in § 322.7, in the second column, paragraphs (l)(2) through (l)(5) are corrected to read paragraphs (l)(1) through (l)(4).

Dated: March 26, 2012.
Aaron Siegel,
Alternate OSD Federal Register Liaison Officer, Department of Defense.

[FR Doc. 2012-7596 Filed 3-29-12; 8:45 am]

BILLING CODE 5001-06-P